DEPARTMENT OF COMMERCE

National Oceanic and Atmospheric Administration

RIN: 0648-XI59

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Allocation Committee in North Charleston, SC.

DATES: The meeting will take place July 8-9, 2008. See SUPPLEMENTARY INFORMATION for specific dates and times.

ADDRESSES: The meeting will be held at Southern Wesleyan University, Classroom 6, 4055 Faber Place Drive, Suite 301, North Charleston, SC 29406.

Council address: South Atlantic Fishery Management Council, 4055 Faber Place Drive, Suite 201, North Charleston, SC 29405.

FOR FURTHER INFORMATION CONTACT: Kim Iverson, Public Information Officer; telephone: (843) 571-4366 or toll free (866) SAFMC-10; fax: (843) 769-4520; email: kim.iverson@safmc.net.

SUPPLEMENTARY INFORMATION: The Allocation Committee meeting will take place from 8:30 a.m. - 5 p.m. on July 8, 2008, and from 8 a.m. - 12 noon on July 9, 2008.

The Committee will identify allocation alternatives for species addressed in Amendment 17 to the Snapper Grouper Fishery Management Plan, currently under development by the Council. Amendment 17 establishes Annual Catch Limits and Accountability Measures for 10 species in the snapper grouper management unit currently undergoing overfishing. The allocation alternatives will be presented to the Council's Snapper Grouper Committee for consideration during the Council meeting week, September 15-19, 2008, in Charleston, SC.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see ADDRESSES) 3 days prior to the meetings.

Note: The times and sequence specified in this agenda are subject to change.

Dated: June 18, 2008.
Tracey L. Thompson,
Acting Director, Office of Sustainable Fisheries, National Marine Fisheries Service.

[FR Doc. E8-14071 Filed 6-20-08; 8:45 am]

BILLING CODE 3510-22-S